COMMISSION ON CIVIL RIGHTS

Notice of Public Meeting of the Florida Advisory Committee; Correction

AGENCY: Commission on Civil Rights.

ACTION: Notice; correction to meeting time.

SUMMARY: The Commission on Civil Rights published a notice in the Federal Register on Friday, May 2, 2025, concerning a meeting of the Florida Advisory Committee. The meeting time has since changed from 3:00 p.m.-4:00 p.m. ET to 3:00 p.m.-4:30 p.m. ET.

FOR FURTHER INFORMATION CONTACT: Liliana Schiller, Support Services Specialist, at lschiller@usccr.gov or (202) 770-1856.

SUPPLEMENTARY INFORMATION:

Correction: In the Federal Register on Friday, May 2, 2025, in FR Document Number 2025-07619 on page 18831, second column, correct the meeting time to: 3:00 p.m.-4:30 p.m. ET.

Dated: June 26, 2025.
David Mussatt,
Supervisory Chief, Regional Programs Unit.

[FR Doc. 2025-12206 Filed 6-30-25; 8:45 am]

BILLING CODE P